DEPARTMENT OF AGRICULTURE

Forest Service

Gold/Boulder/Sullivan, Kootenai National Forest, Lincoln County, Montana

AGENCY: Forest Service, USDA.

ACTION: Notice of revision of intent to prepare an environmental impact statement.

SUMMARY: The USDA—Forest Service is revising its notice of intent to prepare an Environmental Impact Statement for the Gold/Boulder/Sullivan Project, as described in the Federal Register dated March 24, 2000 (Vol. 65, No. 58, Pages 15892-15895), due to the following major changes:

1. The filing of the DEIS will be delayed more than six months, and

2. There will be changes to the Proposed Action

The delay and changes are attributable to wildfires that occurred in the Gold/Boulder/Sullivan Project Area during August 2000.

FOR FURTHER INFORMATION: Contact Ron Komac, Acting NEPA Coordinator, Rexford Ranger District, Phone (406) 296-7130.

Dated: November 7, 2000.
Bob Castaneda,
Forest Supervisor, Kootenai National Forest.

[FR Doc. 00-29387 Filed 11-15-00; 8:45 am]

BILLING CODE 3410-11-M